DEPARTMENT OF ENERGY

Federal Energy Regulatory Commission

[Docket No. ER00-2565-000]

Southwestern Public Service Company; Notice of Filing

May 25, 2000.

Take notice that on May 22, 2000, New Century Services, Inc. (NCS), on behalf of Southwestern Public Service Company (SPS), tendered for filing an unexecuted Service Agreement for Network Integration Transmission Service and an unexecuted Network Operating Agreement between Golden Spread Electric Cooperative, Inc. (Golden Spread) and SPS under the open-access transmission tariff filed by NCS, on behalf of the Utility Operating Company Subsidiaries of New Century Energies, Inc.

NCS requests waiver of the Commission's 60-day notice requirements so that the enclosed agreement can become effective on April 20, 2000.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14144 Filed 6-5-00; 8:45 am]

BILLING CODE 6717-01-M